NUCLEAR REGULATORY COMMISSION

[Docket Nos. 50-282 and 50-306; NRC-2010-0290]

Northern States Power Company—Minnesota Notice of Issuance of Amendments to Facility Operating Licenses Involving No Significant Hazards Considerations; Correction

AGENCY: Nuclear Regulatory Commission.

ACTION: Notice of Issuance; Correction.

SUMMARY: This document corrects a notice appearing in the Federal Register on September 7, 2010 (75 FR 54397), which informed the public that the Nuclear Regulatory Commission issued Amendment Nos. 197 and 186 to Facility Operating License Nos. DPR-42 and DPR-60, respectively, for the Prairie Island Nuclear Generating Plant, Units 1 and 2. This action is necessary to correct the date of issuance.

FOR FURTHER INFORMATION CONTACT: Thomas J. Wengert, Office of Nuclear Reactor Regulation, U.S. Nuclear Regulatory Commission, Washington, DC 20555-0001; telephone (301) 415-4037, e-mail: Thomas.Wengert@nrc.gov.

SUPPLEMENTARY INFORMATION: On page 54397, appearing near the bottom of the second column, after Date of Issuance: The date is corrected to read from “August 17, 2010” to “August 18, 2010”.

Dated in Rockville, Maryland, this 9th day of September 2010.
For the Nuclear Regulatory Commission.
Thomas J. Wengert,
Senior Project Manager, Plant Licensing Branch III-1, Division of Operating Reactor Licensing, Office of Nuclear Reactor Regulation.

[FR Doc. 2010-23516 Filed 9-20-10; 8:45 am]

BILLING CODE 7590-01-P